NATIONAL SCIENCE FOUNDATION

Committee on Equal Opportunities in Science and Engineering; Notice of Meeting

In accordance with the Federal Advisory Committee Act (Pub. L. 92-463, as amended), the National Science Foundation (NSF) announces the following meeting:

Name and Committee Code: Committee on Equal Opportunities in Science and Engineering (CEOSE) Advisory Committee Meeting (#1173)

Date and Time: February 1, 2018; 1:00 p.m.-5:30 p.m. February 2, 2018; 8:30 a.m.-3:30 p.m.

Place: National Science Foundation, 2415 Eisenhower Avenue, Alexandria, VA 22314. To help facilitate your entry into the building, please contact Una Alford (ualford@nsf.gov or 703-292-7111) on or prior to January 29, 2018.

Type of Meeting: Open.

Contact Person: Dr. Bernice Anderson, Senior Advisor and CEOSE Executive Secretary, Office of Integrative Activities (OIA), National Science Foundation, 2415 Eisenhower Avenue Alexandria, VA 22314. Contact Information: 703-292-8040/banderso@nsf.gov.

Minutes: Meeting minutes and other information may be obtained from the CEOSE Executive Secretary at the above address or the website at http://www.nsf.gov/od/oia/activities/ceose/index.jsp.

Purpose of Meeting: To study data, programs, policies, and other information pertinent to the National Science Foundation and to provide advice and recommendations concerning broadening participation in science and engineering.

Agenda:

• Opening Statement and Chair Report by the CEOSE Chair

• NSF Executive Liaison Report

• Discussion: 2015-2016 Biennial Report—Recommendation and Dissemination

• Presentation: Pursing Meaningful Actions in Support of Broadening Participation in Computing

• Presentation: NSF Big Idea: Harnessing Data for 21st Century Science and Engineering

• Reports and Updates from the CEOSE Liaisons and the Federal Liaisons

• Panel: Inclusion of Diverse Community Voices

• Meeting with NSF Director and Chief Operating Officer

• Discussion: 2017-2018 CEOSE Biennial Report to Congress

Dated: January 2, 2018.
Crystal Robinson,
Committee Management Officer.

[FR Doc. 2018-00093 Filed 1-5-18; 8:45 am]

BILLING CODE 7555-01-P